DEPARTMENT OF LABOR

Employment and Training Administration

[TA-W-58,515]

Ablest Staffing Services Working On-Site at Wellington Leisure Products, Granite Quarry, NC; Dismissal of Application for Reconsideration

Pursuant to 29 CFR 90.18(C) an application for administrative reconsideration was filed with the Director of the Division of Trade Adjustment Assistance for workers at Ablest Staffing Services, Working On-Site at Wellington Leisure Products, Granite Quarry, North Carolina. The application did not contain new information supporting a conclusion that the determination was erroneous, and also did not provide a justification for reconsideration of the determination that was based on either mistaken facts or a misinterpretation of facts or of the law. Therefore, dismissal of the application was issued.

TA-W-58,515; Ablest Staffing Services, Working On-Site at Wellington Leisure Products Granite Quarry, North Carolina, (March 16, 2006).

Signed at Washington, DC this 17th day of February 2006.
Erica R. Cantor,
Director, Division of Trade Adjustment Assistance.

[FR Doc. E6-4285 Filed 3-23-06; 8:45 am]

BILLING CODE 4510-30-P